DEPARTMENT OF JUSTICE

Antitrust Division

Notice Pursuant to the National Cooperative Research and Production Act of 1993—Medical CBRN Defense Consortium

Notice is hereby given that, on July 30, 2020, pursuant to Section 6(a) of the National Cooperative Research and Production Act of 1993, 15 U.S.C. 4301 et seq. (“the Act”), Medical CBRN Defense Consortium (“MCDC”) has filed written notifications simultaneously with the Attorney General and the Federal Trade Commission disclosing changes in its membership. The notifications were filed for the purpose of extending the Act's provisions limiting the recovery of antitrust plaintiffs to actual damages under specified circumstances. Specifically, Abiogenix, Inc.; Rochester, MI; ANP Technologies, Inc.; Newark, DE; Arcturus UAV, Inc.; Petaluma, CA; AstraZeneca Pharmaceuticals, LP; Gaithersburg, MD; Blade Therapeutics, Inc.; South San Francisco, CA; Celularity, Inc.; New York, NY; Commonwealth Trading Partners, Inc.; Alexandria, VA; Cytonus Therapeutics, Inc.; Columbus, OH; D. Wheatley Enterprises, Inc.; Belcamp, MD; ElectroNucleics, Inc.; Placentia, CA; Fast-Track Drugs & Biologics, LLC; Poolesville, MD; Fry Laboratories, LLC; Scottsdale, AZ; Full Effect Biotech, Inc.; Kansas City, KS; GAP Solutions, Inc.; Herndon, VA; iBio CDMO LLC; Bryan, TX; iBio, Inc.; New York, NY; Massachusetts Eye and Ear Infirmary; Boston, MA; MicroHealth LLC; Vienna, VA; Novavax, Inc.; Gaithersburg, MD; Pfizer, Inc.; New York, NY; Planet Biotechnology, Inc.; Hayward, CA; Primmune Therapeutics, Inc.; San Diego, CA; Quantum Leap Healthcare Collaborative; San Francisco, CA; QuickSilver Analytics, Inc.; Hampstead, NC; Regeneron Pharmaceuticals, Inc.; Tarrytown, NY; Resonant Sensors, Inc.; Arlington, TX; Rubix Strategies LLC; Lawrence, MA; Shift Labs, Inc.; Seattle, WA; SiO2 Medical Products, Inc.; Auburn, AL; Space Information Laboratories; Santa Maria, CA; Teledyne Brown Engineering, Inc.; Huntsville, AL; TensorX Inc.; Vienna, VA; Tunnell Consulting, Inc.; Bethesda, MD; Ultimaxx Health, Inc.; Boca Raton, FL; University of Delaware on behalf of NIIMBL; Newark, DE; University of Louisville; Louisville, KY; Vaxart, Inc.; South San Francisco, CA; Zeteo Biomedical LLC; Austin, TX have been added as parties to this venture.

Also, Onyx Government Services; Centreville, VA; Space Information Laboratories; Santa Maria, CA, Valaria Technical Consultants, LLC; Westminister, MD have withdrawn from this venture.

No other changes have been made in either the membership or planned activity of the group research project. Membership in this group research project remains open, and MCDC intends to file additional written notifications disclosing all changes in membership.

On November 13, 2015, MCDC filed its original notification pursuant to Section 6(a) of the Act. The Department of Justice published a notice in the Federal Register pursuant to Section 6(b) of the Act on January 6, 2016 (81 FR 513).

The last notification was filed with the Department on April 30, 2020. A notice was published in the Federal Register pursuant to Section 6(b) of the Act on May 19, 2020 (85 FR 29976).

Suzanne Morris,
Chief, Premerger and Division Statistics, Antitrust Division.

[FR Doc. 2020-18979 Filed 8-27-20; 8:45 am]

BILLING CODE P